DEPARTMENT OF LABOR

Office of the Secretary

Job Corps: Final Finding of No Significant Impact (FONSI) for the Proposed Job Corps Center To Be Located North of Roosevelt Highway Between Washington Road and Interstate 285 in College Park, GA

AGENCY: Office of the Secretary (OSEC), Department of Labor.

ACTION: Final Finding of No Significant Impact (FONSI) for the proposed Job Corps Center to be located north of Roosevelt Highway between Washington Road and Interstate 285 in College Park, Georgia.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a new Job Corps Center north of Roosevelt Highway between Washington Road and Interstate 285 in College Park, Georgia, and that this construction will not have a significant adverse impact on the environment. In accordance with 29 CFR 11.11(d) and 40 CFR 1501.4(e)(2), a preliminary FONSI for the new Job Corps Center was published in the June 18, 2007 Federal Register (72 FR Page 33534-33535). No comments were received regarding the preliminary FONSI. OSEC has reviewed the conclusion of the environmental assessment (EA), and agrees with the finding of no significant impact. This notice serves as the Final Finding of No Significant Impact for the new Job Corps Center north of Roosevelt Highway between Washington Road and Interstate 285 in College Park, Georgia. The preliminary FONSI and the EA are adopted in final with no change.

DATES: Effective Date: These findings are effective as of August 2, 2007.

FOR FURTHER INFORMATION CONTACT: Michael F. O'Malley, Architect, Unit Chief of Facilities, U.S. Department of Labor, Office of the Secretary (OSEC), 200 Constitution Avenue, NW., Room N-4460, Washington, DC 20210, (202) 693-3108 (this is not a toll-free number).

Dated: October 31, 2007.
Esther R. Johnson,
National Director of Job Corps.

[FR Doc. E7-21709 Filed 11-5-07; 8:45 am]

BILLING CODE 4510-23-P